DEPARTMENT OF HEALTH AND HUMAN SERVICES

Privacy Act of 1974; Matching Program

AGENCY: Centers for Medicare & Medicaid Services (CMS), Department of Health and Human Services (HHS).

ACTION: Notice of a new matching program.

SUMMARY: In accordance with the Privacy Act of 1974, as amended, the Department of Health and Human Services (HHS), Centers for Medicare & Medicaid Services (CMS) is providing notice of a new matching program between CMS and the Department of Defense (DoD), “Verification of Eligibility for Minimum Essential Coverage Under the Patient Protection and Affordable Care Act Through a Department of Defense Health Benefits Plan.”

DATES: The deadline for comments on this notice is November 30, 2018. The re-established matching program will commence not sooner than 30 days after publication of this notice, provided no comments are received that warrant a change to this notice. The matching program will be conducted for an initial term of 18 months (from approximately December 2018 to June 2020) and within 3 months of expiration may be renewed for one additional year if the parties make no change to the matching program and certify that the program has been conducted in compliance with the matching agreement.

ADDRESSES: Interested parties may submit written comments on this notice, by mail or email, to the CMS Privacy Officer, Division of Security, Privacy Policy & Governance, Information Security & Privacy Group, Office of Information Technology, Centers for Medicare & Medicaid Services, Location: N1-14-56, 7500 Security Blvd., Baltimore, MD 21244-1850, Walter.Stone@cms.hhs.gov.

FOR FURTHER INFORMATION CONTACT: If you have questions about the matching program, you may contact Jack Lavelle, Senior Advisor, Marketplace Eligibility and Enrollment Group, Centers for Consumer Information and Insurance Oversight, CMS, at (410) 786-0639, or by email at Jack.Lavelle1@cms.hhs.gov, or by mail at 7501 Wisconsin Ave., Bethesda, MD 20814.

SUPPLEMENTARY INFORMATION: The Privacy Act of 1974, as amended (5 U.S.C. 552a) provides certain protections for individuals applying for and receiving federal benefits. The law governs the use of computer matching by federal agencies when records in a system of records (meaning, federal agency records about individuals retrieved by name or other personal identifier) are matched with records of other federal or non-federal agencies. The Privacy Act requires agencies involved in a matching program to:

1. Enter into a written agreement, which must be prepared in accordance with the Privacy Act, approved by the Data Integrity Board of each source and recipient federal agency, provided to Congress and the Office of Management and Budget (OMB), and made available to the public, as required by 5 U.S.C. 552a(o), (u)(3)(A), and (u)(4).

2. Notify the individuals whose information will be used in the matching program that the information they provide is subject to verification through matching, as required by 5 U.S.C. 552a(o)(1)(D).

3. Verify match findings before suspending, terminating, reducing, or making a final denial of an individual's benefits or payments or taking other adverse action against the individual, as required by 5 U.S.C. 552a(p).

4. Report the matching program to Congress and the OMB, in advance and annually, as required by 5 U.S.C. 552a(o) (2)(A)(i), (r), and (u)(3)(D).

5. Publish advance notice of the matching program in the Federal Register as required by 5 U.S.C. 552a(e)(12).

This matching program meets these requirements.

Barbara Demopulos,
CMS Privacy Advisor, Division of Security, Privacy Policy and Governance Information Security and Privacy Group, Office of Information Technology, Centers for Medicare & Medicaid Services.

Participating Agencies

Department of Health and Human Services (HHS), Centers for Medicare & Medicaid Services (CMS) is the recipient agency, and the Department of Defense (DoD), Defense Manpower Data Center (DMDC) is the source agency.

Authority for Conducting the Matching Program

The matching program is authorized under 42 U.S.C. 18001, et seq.

Purpose(s)

The purpose of the matching program is to provide CMS with DoD data verifying individuals' eligibility for coverage under a DoD health benefits plan (i.e., TRICARE), when requested by CMS and state-based administering entities (AE) for the purpose of determining the individuals' eligibility for insurance affordability programs under the Affordable Care Act (ACA). CMS and the requesting AE will use the DoD data to determine whether an enrollee in private health coverage under a qualified health plan through a federally-facilitated or state-based health insurance exchange is eligible for coverage under TRICARE, and the dates the individual was eligible for TRICARE coverage. DoD health benefit plans provide minimum essential coverage (MEC), and eligibility for such plans usually precludes eligibility for financial assistance in paying for private coverage. CMS and AE will use the DoD data to authenticate identity, determine eligibility for financial assistance (including an advance tax credit and cost-sharing reduction, which are types of insurance affordability programs), and determine the amount of the financial assistance.

Categories of Individuals

The categories of individuals whose information is involved in the matching program are active duty service members and their family members and retirees and their family members whose TRICARE eligibility records at DoD match data provided to DoD by CMS (submitted by AEs) about individual consumers who are applying for or are enrolled in private health insurance coverage under a qualified health plan through a federally-facilitated or state-based health insurance exchange.

Categories of Records

The categories of records used in the matching program are identity records and minimum essential coverage period records. The data elements are as follows:

A. From CMS to DoD

For each applicant or enrollee seeking an eligibility determination, CMS will submit a request file to DoD that may contain, but is not limited to, the following specified data elements in a fixed record format: Transaction ID, social security number (SSN), first name, middle name, surname, date of birth, gender, requested qualified health plan (QHP) coverage effective date, requested QHP coverage end date.

B. From DoD to CMS

For each applicant or enrollee seeking an eligibility determination, DoD will provide CMS with data indicating whether or not the individual is eligible for MEC through TRICARE during the applicable QHP coverage period. The data may contain, but is not limited to, the following specified data elements in a fixed record format: Insurance end date, person SSN identification, response code, response code text.

System(s) of Records

The records used in this matching program are disclosed from the following systems of records, as authorized by routine uses published in the System of Records Notices (SORNs) cited below:

A. CMS System of Records

□ MCMS Health Insurance Exchanges System (HIX), CMS System No. 09-70-0560, last published in full at 78 FR 63211 (Oct. 23, 2013), as amended at 83 FR 6591 (Feb. 14, 2018).

B. DoD Systems of Records

□ SDMDC 02 DoD, Defense Enrollment Eligibility Reporting Systems (DEERS), 80 FR 68304 (Nov. 4, 2015), as amended at 81 FR 49210 (July 27, 2016).

[FR Doc. 2018-23780 Filed 10-30-18; 8:45 am]

BILLING CODE 4120-03-P